DEPARTMENT OF ENERGY

Federal Energy Regulatory Commission

Combined Notice of Filings #2

Take notice that the Commission received the following electric corporate filings:

Docket Numbers: EC13-115-000.

Applicants: Puget Sound Energy, Inc., Electron Hydro, LLC.

Description: Application for Authorization for Disposition and Consolidation of Jurisdictional Facilities, Acquisition of an Existing Generation Facility, and Request for Expedited Action of Puget Sound Energy, Inc., et al.

Filed Date: 6/7/13.

Accession Number: 20130607-5104.

Comments Due: 5 p.m. ET 6/28/13.

Take notice that the Commission received the following electric rate filings:

Docket Numbers: ER13-1644-000.

Applicants: Arizona Public Service Company.

Description: Service Agreement No. 216 Modification—NITS Agreement to be effective 6/21/2013.

Filed Date: 6/7/13.

Accession Number: 20130607-5057.

Comments Due: 5 p.m. ET 6/28/13.

Docket Numbers: ER13-1645-000.

Applicants: PJM Interconnection, L.L.C., Trans-Allegheny Interstate Line Company.

Description: Petition of PJM Interconnection, L.L.C. et al, for Waiver of Tariff Provisions with Request for Expedited Action.

Filed Date: 6/7/13.

Accession Number: 20130607-5099.

Comments Due: 5 p.m. ET 6/28/13.

Docket Numbers: ER13-1646-000.

Applicants: Electron Hydro, LLC.

Description: Application for Market-Based Rate Authority to be effective 6/7/2013.

Filed Date: 6/7/13.

Accession Number: 20130607-5121.

Comments Due: 5 p.m. ET 6/28/13

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 7, 2013.
Nathaniel J. Davis, Sr.,
Deputy Secretary.

[FR Doc. 2013-14598 Filed 6-18-13; 8:45 am]

BILLING CODE 6717-01-P